DEPARTMENT OF THE INTERIOR

Bureau of Reclamation

Agency Information Collection; Proposed Revisions to a Currently Approved Information Collection; Comment Request

AGENCY: Bureau of Reclamation, Interior.

ACTION: Notice of renewal of a currently approved collection (OMB No. 1006-0001).

SUMMARY: In accordance with the Paperwork Reduction Act of 1995 (44 U.S.C. § 3501 et seq.), the Bureau of Reclamation (we, our or us) intends to submit a request for renewal (with revisions) of an existing approved information collection to the Office of Management and Budget (OMB): Crop Acreage and Yields and Water Distribution (Water User Crop Census Report [Form 7-332], and Crop and Water Data [Form 7-2045]), OMB Control Number: 1006-001. We request your comments on the revised Crop Acreage and Yields and Water Distribution Forms and specific aspect of the information collection.

DATES: Your written comments must be received on or before September 16, 2002.

ADDRESSES: You may send written comments to the Bureau of Reclamation, Attention: D-5200, P.O. Box 25007, Denver, CO 80225-0007.

FOR FURTHER INFORMATION CONTACT: You may request copies of the proposed revised forms by writing to the above address or by contacting Jeremy Simons at: (303) 445-2739.

SUPPLEMENTARY INFORMATION: The currently approved collection has been revised to reflect industry standards concerning units used to measure yields for certain copies (i.e., using pounds instead of bales for cotton lint and using pounds instead of tons for hops). Other changes include:

• In Section II-e on both forms, “Acres irrigated by”, we are adding the option to choose “Flood” along with the current options of “Sprinkler” and “Drip”.

• In Section II-g on both forms, “Acres not irrigated”, we are adjusting the format of the box to allow checkmark indications for the options of “dry cropped”, “fallow”, and “idle”, in addition to the number of acres.

• Within each subsection (i.e., Cereals, Forage, Vegetables, etc.) in Section III on both forms, “Crop Production“, we are placing the items in alphabetical order.

• In Section III on both forms, we are moving “Cantaloupe”, ”Watermelon”, and “Honey Ball, Honeydew, etc.” from the “Vegetables” subsection to the “Fruits” subsection.

• In Section I on Form 7-332, “Irrigator Information”, we are including a box that asks for the respondent's telephone number so any potential questions may be directed to that person.

• We are removing the footnotes to both forms and incorporating the footnotes within the body of the instructions that accompany each form.

There have been editorial changes to the current Form 7-332 and Form 7-2045, and to the instructions that accompany these forms. These changes have been made to increase the respondents' understanding of the forms and understanding of the instructions to the forms. The proposed changes will be included starting with the 2003 Crop Acreage and Yields and Water Distribution information collection.

Title: Crop Acreage and Yields and Water Distribution

Forms: Form 7-332, Water User Crop Census Report; and Form 7-2045, Crop and Water Data.

Abstract: The annual crop census is taken on all Bureau of Reclamation projects, along with collection of related statistics, primarily for use as a tool in administering, managing, and evaluating the Federal Reclamation program. The census is used to assist in the administration of repayment and water service contracts, which are used to repay the irrigators' obligation to the Federal Government. The census will provide data to facilitate the required 5-year review of ability-to-pay analysis, which is being incorporated into new repayment and water service contracts. The basis for these reviews is an audit by the Office of the Inspector General, Department of the Interior.

Data from the census are utilized to determine class 1 equivalency computations, i.e., determining the number of acres of class 2 and class 3 land that are required to be equivalent in productivity to class 1 land.

In recent years, the census has provided data which are used to administer international trade agreements, such as the North American Free Trade Agreement. Data from the census are also used by the Office of the Inspector General, General Accounting Office, and the Congressional Research Service to independently evaluate our program and to estimate the impacts of proposed legislation. These data are supplied to other Federal and State agencies to evaluate the program and provide data for research.

Description of Respondents: Irrigators and water user entities in the 17 Western States who receive irrigation water service from Bureau of Reclamation facilities. Also included are entities who receive other water services, such as municipal and industrial water through Bureau of Reclamation facilities.

Frequency of Collection: Annually.

Estimated completion time: Form 7-332, 15 minutes; Form 7-2045, 480 minutes.

Annual responses: Form 7-332, 25,000 responses; Form 7-2045, 225 responses.

Annual burden hours per form: Form 7-332, 6,250; Form 7-2045, 1,800.

Total Annual burden hours: 8,050.

Comments are invited on: (a) Whether the proposed collection of information is necessary for the proper performance of the functions of the Bureau of Reclamation, including whether the information will have practical utility; (b) the accuracy of our burden estimate for the proposed collection of information, including the validity of the methodology and assumptions used; (c) ways to enhance the quality, utility, and clarity of the information being collected; and (d) ways to minimize the burden of the collection of information on those who are to respond, including increased use of automated collection techniques or other forms of information technology.

We will summarize all comments received regarding this notice. We will publish that summary in the Federal Register when the information collection request is submitted to OMB for review and approval.

Department of the Interior practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: July 1, 2002.
Elizabeth Cordova-Harrison,
Deputy Director, Office of Policy.

[FR Doc. 02-17944 Filed 7-16-02; 8:45 am]

BILLING CODE 4310-MN-M